DEPARTMENT OF COMMERCE

National Oceanic and Atmospheric Administration

RIN 0648-XT49

Gulf of Mexico Fishery Management Council; Public Meeting

AGENCY: National Marine Fisheries Service (NMFS), National Oceanic and Atmospheric Administration (NOAA), Commerce.

ACTION: Notice of a public meeting.

SUMMARY: The Gulf of Mexico Fishery Management Council will convene a web based meeting of the Socioeconomic Panel.

DATES: The webinar meeting will convene at 10 a.m. eastern time on Thursday, January 21, 2010 and is expected to end at 12 p.m.

ADDRESSES: The webinar will be accessible via internet. Please go to the Gulf of Mexico Fishery Management Council's website at www.gulfcouncil.org for instructions.

Council address: Gulf of Mexico Fishery Management Council, 2203 N. Lois Avenue, Suite 1100, Tampa, FL 33607.

FOR FURTHER INFORMATION CONTACT: Dr. Assane Diagne, Economist; Gulf of Mexico Fishery Management Council; telephone: (813) 348-1630.

SUPPLEMENTARY INFORMATION: The Gulf of Mexico Fishery Management Council will convene its Socioeconomic Panel to discuss economic analyses included in a regulatory amendment considering adjustments to the red snapper total allowable catch.

Copies of the agenda and other related materials can be obtained by calling (813) 348-1630.

Although other non-emergency issues not on the agenda may come before the Socioeconomic Panel for discussion, in accordance with the Magnuson-Stevens Fishery Conservation and Management Act (Magnuson-Stevens Act), those issues may not be the subject of formal action during this meeting. Actions of the Working Group will be restricted to those issues specifically identified in the agenda and any issues arising after publication of this notice that require emergency action under Section 305(c) of the Magnuson-Stevens Act, provided the public has been notified of the Council's intent to take action to address the emergency.

Special Accommodations

This webinar is accessible to people with disabilities. For assistance with any of our webinars contact Tina O'Hern at the Council (see ADDRESSES) at least 5 working days prior to the webinar.

Dated: December 23, 2009.
Tracey L. Thompson,
Acting Director, Office of Sustainable Fisheries, National Marine Fisheries Service.

[FR Doc. E9-30763 Filed 12-28-09; 8:45 am]

BILLING CODE 3510-22-S